DEPARTMENT OF COMMERCE

International Trade Administration

[A-552-802]

Certain Frozen Warmwater Shrimp from the Socialist Republic of Vietnam: Extension of Time Limits for Preliminary and Final Results of Full Five-year ( “Sunset'') Review of Antidumping Duty Order

AGENCY: Import Administration, International Trade Administration, Department of Commerce.

DATES: Effective Date: May 6, 2010.

FOR FURTHER INFORMATION CONTACT: Jerry Huang, AD/CVD Operations, Office 9, Import Administration, International Trade Administration, U.S. Department of Commerce, 14th Street and Constitution Avenue, N.W., Washington, DC 20230; telephone: (202) 482-4047.

SUPPLEMENTARY INFORMATION:

Background

On January 4, 2010, the Department of Commerce (“the Department”) published in the Federal Register the notice of initiation of its sunset reviews of the antidumping duty orders on certain frozen warmwater shrimp from Brazil, the People's Republic of China, India, Thailand, and the Socialist Republic of Vietnam (“Vietnam”). See Initiation of Five-year (“Sunset”) Review, 75 FR 103 (January 4, 2010). On January 19, 2010, domestic interested parties, the Ad Hoc Shrimp Trade Action Committee, and the American Shrimp Processors Association, submitted letters indicating their intent to participate in the sunset review on certain frozen warmwater shrimp from Vietnam. On February 3, 2010, domestic interested parties and 34 respondent interested parties provided substantive responses as required under section 351.218(d)(3) of the Department's regulations. Domestic and respondent interested parties included, in their substantive responses, arguments regarding whether dumping is likely to continue or recur. Domestic and respondent interested parties filed rebuttal comments on February 12, 2010.

On March 2, 2010, the Department determined that the substantive responses filed by the domestic and respondent interested parties were adequate, and that it was appropriate to conduct a full sunset review. See Memorandum to James C. Doyle: Adequacy Determination in Antidumping Duty Sunset Review of Certain Frozen Warmwater Shrimp from the Socialist Republic of Vietnam, dated March 2, 2010, and on file in the Central Records Unit, Room B 099 of the Department of Commerce building. On February 16, 2010, the Department issued a memorandum that tolled the deadlines for all Import Administration cases by seven calendar days due to the recent Federal Government closure. See Memorandum for the Record from Ronald Lorentzen, DAS for Import Administration, Tolling of Administrative Deadlines as a Result of the Government Closure During the Recent Snowstorm, dated February 12, 2010. The Department's preliminary and final results of the sunset review of the antidumping duty order on certain frozen warmwater shrimp are currently scheduled for May 1, 2010 and September 1, 2010, respectively.

Extension of Time Limits for Preliminary and Final Results of Reviews

The Tariff Act of 1930, as amended (the “Act”) provides for the completion of a full sunset review within 240 days of the publication of the initiation notice. See section 751(c)(5)(A) of the Act. In accordance with section 751(c)(5)(B) of the Act, the Department may extend the period of time for making its determination by not more than 90 days, if it determines that the review is extraordinarily complicated.

We determine that this review is extraordinarily complicated, pursuant to section 751(c)(5)(C)(i), (ii) and (iii) of the Act, because there are a large number of issues, a large number of companies involved in this sunset review and because the Department must consider a number of complex issues such as the trends of pre-order and post-order shipment volume. Therefore, the Department requires additional time to complete its analysis. Accordingly, the Department is extending the deadline in this proceeding for 90 days. As a result, the Department intends to issue the preliminary results of the full sunset review by July 30, 2010, and the final results by November 30, 2010.

This notice is issued in accordance with sections 751(c)(5)(B) and (C) of the Act.

Dated: April 30, 2010.
Edward C. Yang,
Acting Deputy Assistant Secretary for Antidumping and Countervailing Duty Operations.

[FR Doc. 2010-10718 Filed 5-5-10; 8:45 am]

BILLING CODE 3510-DS-S